DEPARTMENT OF HOMELAND SECURITY

Coast Guard

33 CFR Part 165

[Docket No. USCG-2024-0748]

Safety and Security Zone; Lake Michigan at Chicago Harbor & Burnham Park Harbor

AGENCY: Coast Guard, DHS.

ACTION: Notification of enforcement of regulation.

SUMMARY: The Coast Guard will enforce the Lake Michigan at Chicago Harbor and Burnham Park Harbor safety and security zone on a portion of Lake Michigan in Chicago, IL. This action is intended to protect spectators and dignitaries associated with the Democratic National Convention. During the enforcement period listed below, entry into, transiting, or anchoring within the safety and security zone is prohibited unless authorized by the Captain of the Port Lake Michigan or a designated Coast Guard or U.S. Secret Service representative.

DATES: The regulations in 33 Code of Federal Regulations (CFR) 165.904 will be enforced from 12 p.m. on August 18, 2024 through 12 p.m. on August 23, 2024.

FOR FURTHER INFORMATION CONTACT: If you have questions about this notice of enforcement, call or email LT James Fortin, Waterways Management Division, Marine Safety Unit Chicago, U.S. Coast Guard; telephone: (630) 986-2155, email: D09-SMB-MSUChicago-WWM@uscg.mil.

SUPPLEMENTARY INFORMATION: The Coast Guard will enforce the Lake Michigan at Chicago Harbor and Burnham Park Harbor safety and security zone listed in 33 CFR 165.904 from 12 p.m. on August 18, 2024 through 12 p.m. on August 23, 2024. This safety and security zone encompasses all waters of Lake Michigan within Burnham Park Harbor shoreward of a line across the entrance of the harbor connecting coordinates 41°51′09″ N, 087°36′36″ W and 41°51′11″ N, 087°36′22″ W.

Pursuant to 33 CFR 165.904, all vessels must obtain permission from the Captain of the Port Lake Michigan, or his or her designated on-scene representative to enter, move within, or exit this safety zone during the enforcement times listed in this notice of enforcement. The designation of the Captain of the Port Lake Michigan's on-scene representative need not be in writing. Requests must be made in advance and approved by the Captain of the Port or a designated on-scene representative before transits will be authorized. Approvals will be granted on a case-by-case basis. Vessels and persons granted permission to enter the safety and security zone shall obey all lawful orders or directions of the Captain of the Port Lake Michigan or U.S. Secret Service official.

This notice of enforcement is issued under authority of 33 CFR 165.904, Lake Michigan at Chicago Harbor & Burnham Park Harbor—Safety and Security Zone and 5 U.S.C. 552(a). In addition to this notification of enforcement in the Federal Register, the Coast Guard will provide the maritime community with notification of this enforcement period via Broadcast Notice to Mariners. The Captain of the Port Lake Michigan may be reached by contacting the Coast Guard Sector Lake Michigan Command Center at (414) 747-7182. An on-scene designated representative may be reached via VHF-FM Channel 16.

Dated: August 16, 2024.
Gregory J. Knoll,
Commander, U.S. Coast Guard, Alternate Captain of the Port, Lake Michigan.

[FR Doc. 2024-18873 Filed 8-22-24; 8:45 am]

BILLING CODE 9110-04-P